NATIONAL SCIENCE FOUNDATION

Notice of Permit Applications Received Under the Antarctic Conservation Act of 1978 (Pub. L. 95-541)

AGENCY: National Science Foundation.

ACTION: Notice of Permit Applications Received Under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 7, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2009-020

1. Applicant: Mary Miller, Exploratorium, 3601 Lyon Street, San Francisco, CA 94123.

Activity for Which Permit Is Requested

Enter Antarctic Specially Protected Areas (ASPA's). The applicant is a participant in the USAP Artists and Writer's Program and plans to visit penguin rookeries (ASPA 124—Cape Crozier and ASPA 121—Cape Royds) and the historic huts (ASPA 157—Backdoor Bay, Cape Royds and ASPA 158 Hut Point, Ross Island) in order to take photographs and video for “Ice Stories: Dispatches from Polar Scientists” an education and public outreach project.

Location

McMurdo Sound region, Antarctica.

Dates

December 1, 2008 to January 7, 2009.

Nadene G. Kennedy,
Permit Officer, Office of Polar Programs.

[FR Doc. E8-23716 Filed 10-7-08; 8:45 am]

BILLING CODE 7555-01-P